FEDERAL EMERGENCY MANAGEMENT AGENCY

44 CFR Part 65

[Docket No. FEMA-B-7406]

Changes in Flood Elevation Determinations

AGENCY: Federal Emergency Management Agency (FEMA).

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table below and revise the Flood Insurance Rate Map(s) in effect prior to this determination for each listed community.

From the date of the second publication of these changes in a newspaper of local circulation, any person has ninety (90) days in which to request through the community that the Associate Director for Mitigation reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The modified base flood elevations are not listed for each community in this interim rule. However, the address of the Chief Executive Officer of the community where the modified base flood elevation determinations are available for inspection is provided.

Any request for reconsideration must be based on knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in base flood elevations are in accordance with 44 CFR 65.4.

National Environmental Policy Act

This rule is categorically excluded from the requirements of 44 CFR Part 10, Environmental Consideration. No environmental impact assessment has been prepared.

Regulatory Flexibility Act

The Associate Director for Mitigation certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Arizona:
Cochise | Unincorporated Areas | September 20, 2000, September 27, 2000, Arizona Range News | The Honorable Mike Palmer, Chairman, Cochise County, Board of Supervisors, 1415 West Melody Lane, Bisbee, Arizona 85603 | December 26, 2000 | 040012
Cochise | City of Sierra Vista | September 20, 2000, September 27, 2000, Sierra Vista Herald | The Honorable Tom Hessler, Mayor, City of Sierra Vista, 1011 North Coronado Drive, Sierra Vista, Arizona 85635 | December 26, 2000 | 040017
California:
Sonoma | City of Petaluma | September 27, 2000, October 4, 2000, Petaluma Argus- Courier | The Honorable Clark Thompson, Mayor, City of Petaluma, P.O. Box 61 Petalauma, California 94953-0061 | September 7, 2000 | 060379
Sonoma | Unincorporated Areas | September 27, 2000, October 4, 2000, The Press Democrat | The Honorable Mike Reiley, Chairman, Sonoma County, Board of Supervisors, 575 Administration Drive, Room 100A, Santa Rosa, California 95403 | September 7, 2000 | 060375
Hawaii:
Hawaii | Unincorporated Areas | October 5, 2000, October 12, 2000, Hawaii Tribune Herald | The Honorable Stephen K. Yamashiro, Mayor, Hawaii County, 25 Aupuni Street, Hilo, Hawaii 96720 | September 19, 2000 | 155166
Oregon:
Polk | City of Dallas | October 18, 2000, October 25, 2000, Polk County Itemizer Observer | The Honorable Gwen Van Den Bosch, Mayor, City of Dallas, P.O. Box 67, Dallas, Oregon 97338 | January 23, 2001 | 410187
Polk | Unincorporated Areas | October 18, 2000, October 25, 2000, Polk County Itemizer Observer | The Honorable Thomas Ritchey, Chairman, Polk County, Board of Commissioners, 850 Main Street, Dallas, Oregon 97338 | January 23, 2001 | 410186
Washington | City of Beaverton | October 4, 2000, October 11, 2000, The Oregonian | The Honorable Rob Drake, Mayor, City of Beaverton, P.O. Box 4755, Beaverton, Oregon 97076 | May 25, 2000 | 410240
Washington | Unincorporated Areas | October 4, 2000, October 11, 2000, The Oregonian | The Honorable Tom Brian, Chairman, Washington County, Board of Commissioners, 155 North First Avenue, Suite 300, M.S. 22, Hillsboro, Oregon 97124-3072 | May 25, 2000 | 410238
Texas:
Dallas | City of Dallas | September 29, 2000, October 6, 2000, Dallas Morning News | The Honorable Ron Kirk, Mayor, City of Dallas, 1500 Marilla Street, Suite 5EN, Dallas, Texas 75201 | January 4, 2001 | 480171
Harris | City of Houston | September 15, 2000, September 22, 2000, Houston Chronicle | The Honorable Lee Brown, Mayor, City of Houston, P.O. Box 1562, Houston, Texas 77251-1562 | August 24, 2000 | 480296
Harris | Unincorporated Areas | September 15, 2000, September 22, 2000, Houston Chronicle | The Honorable Robert Eckels, Harris County Judge, 1001 Preston Street, Suite 911, Houston, Texas 77002 | August 24, 2000 | 480287
Hays | City of Kyle | June 22, 2000, June 29, 2000, The Free Press | The Honorable James Adkins, Mayor, City of Kyle, P.O. Box 40, Kyle, Texas 78640 | September 27, 2000 | 481108
Tarrant | City of Keller | October 17, 2000, October 24, 2000, The Keller Citizen | The Honorable Dave Philips, Mayor, City of Keller, P.O. Box 770, Keller, Texas 76244 | October 3, 2000 | 480602
Travis | City of Austin | September 29, 2000, October 4, 2000, Austin American Statesman | The Honorable Kirk Wilson, Mayor, City of Austin, 124 West 8th Street, Austin, Texas 78701 | January 4, 2001 | 480624
Williamson | City of Leander | September 27, 2000, October 4, 2000, Hill Country News | The Honorable Larry Barnett, Mayor, City of Leander, P.O. Box 319, Leander, Texas 78646 | January 2, 2001 | 481536
Virginia:
Albermarle | Unincorporated Areas | July 27, 2000, August 3, 2000, Daily Progress | The Honorable Robert W. Tucker, Jr., Albermarle County Executive, Albermarle County Office Building, 401 McIntire Road, Charlottesville, Virginia 22902 | July 5, 2000 | 510006

(Catalog of Federal Domestic Assistance No. 83.100, “Flood Insurance”)
Dated: November 21, 2000.
Michael J. Armstrong,
Associate Director for Mitigation.

[FR Doc. 00-30559 Filed 11-29-00; 8:45 am]

BILLING CODE 6718-04-P